DEPARTMENT OF DEFENSE

GENERAL SERVICES ADMINISTRATION

NATIONAL AERONAUTICS AND SPACE ADMINISTRATION

[OMB Control No. 9000-0047]

Federal Acquisition Regulation; Submission for OMB Review; Place of Performance

AGENCIES: Department of Defense (DOD), General Services Administration (GSA), and National Aeronautics and Space Administration (NASA).

ACTION: Notice of request for public comments regarding an extension to an existing OMB clearance (9000-0047).

SUMMARY: Under the provisions of the Paperwork Reduction Act of 1995 (44 U.S.C. Chapter 35), the Federal Acquisition Regulation (FAR) Secretariat has submitted to the Office of Management and Budget (OMB) a request to review and approve an extension of a currently approved information collection requirement concerning place of performance. A request for public comments was published at 68 FR 41322 on July 11, 2003. No comments were received.

Public comments are particularly invited on: Whether this collection of information is necessary for the proper performance of functions of the FAR, and whether it will have practical utility; whether our estimate of the public burden of this collection of information is accurate, and based on valid assumptions and methodology; and ways to enhance the quality, utility, and clarity of the information to be collected. When the On-Line Representation and Certifications Application (ORCA) becomes available, contractors will be able to complete the provision electronically; however, because the data being collected could change for a specific solicitation, contractor's will still be required to submit place of performance information on an exception basis; that is, whenever the place of performance for a specific solicitation is different from the place of performance shown in ORCA.

DATES: Submit comments on or before November 14, 2003.

ADDRESSES: Submit comments regarding this burden estimate or any other aspect of this collection of information, including suggestions for reducing this burden to the General Services Administration, FAR Secretariat (MVA), 1800 F Street, NW., Room 4035, Washington, DC 20405

FOR FURTHER INFORMATION CONTACT: Gerald Zaffos, Acquisition Policy Division, GSA (202) 208-6091.

SUPPLEMENTARY INFORMATION:

A. Purpose

The information relative to the place of performance and owner of plant or facility, if other than the prospective contractor, is a basic requirement when contracting for supplies or services (including construction). This information is instrumental in determining bidder responsibility, responsiveness, and price reasonableness. A prospective contractor must affirmatively demonstrate its responsibility. Hence, the Government must be apprised of this information prior to award. The contracting officer must know the place of performance and the owner of the plant or facility to (1) determine bidder responsibility; (2) determine price reasonableness; (3) conduct plant or source inspections; and (4) determine whether the prospective contractor is a manufacturer or a regular dealer. The information is used to determine the firm's eligibility for awards and to assure proper preparation of the contract.

B. Annual Reporting Burden

Respondents: 79,397.

Responses Per Respondent: 14.

Total Responses: 1,111,558.

Hours Per Response: .07.

Total Burden Hours: 77,810.

Obtaining Copies of Proposals: Requesters may obtain a copy of the information collection documents from the General Services Administration, FAR Secretariat (MVA), Room 4035, 1800 F Street, NW, Washington, DC 20405, telephone (202) 501-4755. Please cite OMB Control No. 9000-0047, Place of Performance, in all correspondence.

Dated: October 8, 2003.
Ralph J. Destefano,
Acting Director, Acquisition Policy Division.

[FR Doc. 03-26022 Filed 10-14-03; 8:45 am]

BILLING CODE 6820-EP-P